DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: The National Defense Executive Reserve Personal Qualifications Statement.

OMB Number: 1660-0001.

Abstract: The NDER is a Federal government program coordinated by FEMA. To become a member of the NDER, individuals with the requisite qualifications must complete a FEMA Form 85-3 is an application form that is used by Federal departments and agencies to fill NDER vacancies and to ensure that individuals are qualified to perform in the assigned emergency positions. FEMA reviews the application form to ensure that the candidate meets all basic membership qualifications for the Executive Reserve; ensures that the applicant is not already serving in a Federal department or agency sponsored unit; and, in some cases, determines the Federal department or agency best suited for the applicant.

Affected Public: Individuals or Households.

Number of Respondents: 30.

Estimated Time per Respondent: .5 hr. (30 minutes).

Estimated Total Annual Burden Hours: 15 hours.

Frequency of Response: Once.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before May 10, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: March 30, 2006.
Darcy Bingham,
Branch Chief, Information Resources Management Branch, Information Technology Services Division.

[FR Doc. E6-5165 Filed 4-7-06; 8:45 am]

BILLING CODE 9110-10-P